DEPARTMENT OF COMMERCE

National Oceanic and Atmospheric Administration

50 CFR Part 622

RIN 0648-BN11

Electronic Logbook Reporting in Commercial Fisheries of the Gulf of America and Atlantic

AGENCY: National Marine Fisheries Service (NMFS), National Oceanic and Atmospheric Administration (NOAA), Commerce.

ACTION: Announcement of availability of proposed fishery management plan amendments; request for comments.

SUMMARY: Two regional fishery management councils have submitted to NMFS for review, and consideration of approval and implementation by NMFS, amendments to four fishery management plans (FMPs) in the Gulf of America (Gulf), South Atlantic, and Atlantic, referenced here as the Commercial Electronic Logbook Amendments. If approved by the Secretary of Commerce (Secretary) and implemented by NMFS, the Commercial Electronic Logbook Amendments would require submission of certain commercial fishing logbooks in an electronic format rather than the current paper format. These FMP amendments also propose minor changes to some of the required data fields in the logbooks determined to be necessary to successfully transition from paper to electronic reporting. The purpose of the Commercial Electronic Logbook Amendments is to increase the accuracy and efficiency of fisheries data that NMFS receives from federally permitted fishermen participating in the applicable commercial fisheries that occur in the Gulf, South Atlantic, and Atlantic.

DATES: Written comments on the Commercial Electronic Logbook Amendments must be received no later than January 20, 2026.

ADDRESSES: You may submit comments on the Commercial Electronic Logbook Amendments, identified by NOAA-NMFS-2025-0570, by either of the following methods:

• Electronic Submission: Submit comments electronically via the Federal e-Rulemaking Portal. Visit https://www.regulations.gov and type NOAA-NMFS-2025-0570 in the Search box. Click on the “Comment” icon, complete the required fields, and enter or attach your comments.

• Mail: Submit written comments to Karla Gore, NMFS Southeast Regional Office, 263 13th Avenue South, St. Petersburg, FL 33701.

Instructions: Comments sent by any other method, to any other address or individual, or received after the end of the comment period will not be considered by NMFS. All comments received are a part of the public record and will generally be posted for public viewing on https://www.regulations.gov without change. All personal identifying information, e.g., name, address, etc., confidential business information, or otherwise sensitive information submitted voluntarily by the sender will be publicly accessible. NMFS will accept anonymous comments—enter N/A in the required fields if you wish to remain anonymous.

An electronic copy of the Commercial Electronic Reporting Amendments is available from https://www.regulations.gov or from the NMFS Southeast Regional Office website at https://www.fisheries.noaa.gov/southeast/resources-fishing/southeast-electronic-reporting-technologies. The Commercial Electronic Logbook Amendments include a Regulatory Flexibility Act (RFA) analysis, regulatory impact review, and fishery impact statement.

FOR FURTHER INFORMATION CONTACT: Karla Gore, NMFS Southeast Regional Office, 727-824-5305, karla.gore@noaa.gov.

SUPPLEMENTARY INFORMATION: NMFS manages a number of fisheries in Federal waters of the U.S. southeast region. The Coastal Migratory Pelagic (CMP) fishery includes the Gulf and Atlantic region, and fish such as king mackerel. The Gulf Fishery Management Council (Gulf Council), South Atlantic Fishery Management Council (South Atlantic Council), and NMFS prepared the FMP for the Coastal Migratory Pelagic Resources of the Gulf and Atlantic Region (CMP FMP). The South Atlantic Council and NMFS prepared the FMP for Dolphin and Wahoo Fishery of the Atlantic (Dolphin and Wahoo FMP) and the FMP for the Snapper-Grouper Fishery of the South Atlantic Region (Snapper-Grouper FMP) in the South Atlantic. The Gulf Council and NMFS prepared the FMP for the Reef Fish Resources of the Gulf (Reef Fish FMP). The FMPs were approved by the Secretary and are implemented by NMFS through regulations at 50 CFR part 622 under the authority of the Magnuson-Stevens Fishery Conservation and Management Act (Magnuson-Stevens Act, 16 U.S.C. 1801 et seq.). The Magnuson-Stevens Act requires each regional fishery management council to submit any FMP or FMP amendment to the Secretary for review and approval, partial approval, or disapproval. The Magnuson-Stevens Act also requires that NMFS, upon receiving an FMP or FMP amendment, publish an announcement in the Federal Register notifying the public that the FMP or amendment is available for review and comment. This action is proposed under the authority of section 303(a)(5) of the Magnuson-Stevens Act [16 U.S.C. 1853(a)(5)], which requires that FMPs specify the data required to be submitted to the Secretary, and consistent with National Standard 7 of the Magnuson-Stevens Act [16 U.S.C. 1851(a)(7)], which requires that conservation and management measures minimize costs and avoid unnecessary duplication where practicable.

The Magnuson-Stevens Act requires that NMFS and regional fishery management councils prevent overfishing and continually achieve the optimum yield from federally managed fish stocks. These mandates are intended to ensure that fishery resources are managed for the greatest overall benefit to the Nation, particularly with respect to providing food production and recreational opportunities, and protecting marine ecosystems. Congress recognized that the collection of reliable data is essential to the effective conservation, management, and scientific understanding of the Nation's fishery resources [16 U.S.C. 1801(a)(7)].

The Commercial Electronic Logbook Amendments would amend four separate FMPs to require the owner or operator of a vessel issued a commercial permit to submit the required logbook in an electronic format rather than using the current paper forms. The FMP amendments include Amendment 35 to the CMP FMP, Amendment 4 to the Dolphin and Wahoo FMP, Amendment 54 to the Snapper-Grouper FMP, and Amendment 57 to the Reef Fish FMP. The Commercial Electronic Logbook Amendments would apply to a vessel owner or operator for which NMFS has issued a commercial permit for: 1. CMP species in the Gulf and Atlantic; 2. Atlantic dolphinfish (dolphin) and wahoo; 3. South Atlantic snapper-grouper species; or 4. Gulf reef fish species.

Background

The Commercial Electronic Logbook Amendments detail the evolution of the data collections through the commercial coastal fisheries logbook program (CFLP) and other commercial reporting requirements. All of these programs provide essential trip information required to assess the status of fish stocks and monitor harvest, which are necessary to comply with the Magnuson-Stevens Act. In addition, economic and discard data are collected to address other provisions of the Magnuson-Stevens Act and other applicable law, such as the need to provide analyses of net economic effects and bycatch. The following discussion summarizes the CFLP and related data collection programs.

The Commercial Logbook Program

NMFS began the CFLP in 1990 for fishermen issued a Federal commercial permit for the Gulf reef fish fishery. Over time, NMFS has expanded the CFLP to include commercial harvest in the South Atlantic snapper-grouper fishery (1992), the CMP fishery in the Gulf and Atlantic (1998), and the Atlantic dolphin and wahoo fishery (2004). Fishermen that target shark species under the FMP for highly migratory species (HMS), which include various tunas, billfishes, and sharks, and is developed by NMFS' Atlantic HMS Management Division, are also included in the CFLP. The CFLP collects basic fishing effort and catch related data, including species and weights of landed fish, fishing location and depth of water, and the type of gear used to fish.

Since the initial implementation of the CFLP, NMFS has made several changes to forms and survey design to improve data collection. For example, the trip expense section of the form has been modified several times since 2001 and several updates were made to the “gear type used” data field to better clarify how fish were harvested. Also, the NMFS Southeast Fisheries Science Center (SEFSC) created a separate no-fishing form to better distinguish between non-fishing and non-reporting activity.

Currently every December, NMFS' SEFSC mails the logbook to the owners of federally permitted vessels with the applicable commercial permit (permit holders). Each year, NMFS selects 20 percent of permit holders to complete economic questions in the “trip expense” section of the logbook and 20 percent of permit holders are selected to complete a supplemental discard survey. The mailing consists of a carbon paper logbook of approximately 100 pages containing 3 sections—instructions, fishing trip reporting forms, and no-fishing report forms—along with postage paid return envelopes. The owner or operator of the federally permitted vessel must report the fishing activity of each trip within 7 days after finishing a trip or after a month without any fishing activity, and mail the form to SEFSC. This recordkeeping and reporting requirement has been in place since at least 2004 for the affected Federal fisheries. NMFS recommends that fishermen keep the carbon copy of the CFLP form for their personal records.

Other Commercial Reporting Programs

Fishermen affected by Commercial Electronic Logbook Amendments may also possess other Federal commercial fishing permits issued by NMFS that have additional or different reporting requirements for commercial fishing trips. Other permits could include those issued by the NMFS Greater Atlantic Regional Fisheries Office (GARFO) and the Atlantic HMS Management Division. A vessel owner or operator with a Federal permit may also have reporting requirements when participating in the individual fishing quota (IFQ) programs in the Gulf or the wreckfish individual transferrable quota (ITQ) program in the South Atlantic. Each permit holder is responsible for ensuring compliance with the permit requirements of all relevant programs.

Gulf Individual Fishing Quota Programs and South Atlantic Wreckfish Individual Transferable Quota Program

NMFS manages the commercial harvest of 14 Gulf reef fish species through 2 IFQ programs under the Reef Fish FMP. The IFQ programs use a dedicated electronic reporting system to track allocation of catch limits to fishermen and commercial landings in real-time. NMFS manages wreckfish under the Snapper-Grouper FMP through an ITQ program. The ITQ program uses paper methods for documentation of share certificates, allocation coupons, wreckfish vessel logbooks, and wreckfish dealer logbooks. NMFS is developing a separate proposed rule to establish an electronic monitoring and tracking system for the ITQ program. These IFQ and ITQ programs allocate a portion of an annual catch level to individual fishermen that can be harvested throughout the fishing year. The IFQ and ITQ reporting systems are not logbook programs and operate independently of the CFLP. Reporting requirements under the IFQ and ITQ programs would remain unchanged by the proposed modifications to the CFLP. Owners and operators of vessels participating in the IFQ and ITQ programs would continue to report to both the applicable IFQ and ITQ system, and the CFLP.

Greater Atlantic Regional Fisheries Office

All commercial vessels with Federal permits issued by NMFS GARFO for species managed by the Mid-Atlantic or New England Fishery Management Councils are required to submit vessel trip reports (VTRs) electronically as eVTRs generally within 48 hours of the end of a commercial fishing trip (50 CFR 648.7). Permit holders that report logbook information to GARFO must use software approved by that office to submit an eVTR. Those fishermen operating vessels with commercial permits issued by both GARFO and the Southeast Regional Office may need to continue to submit multiple reports per commercial fishing trip to remain compliant with the reporting requirements of each permit. NMFS is evaluating options to streamline reporting requirements for various East Coast and Gulf fisheries to reduce or eliminate reporting redundancy.

Atlantic Highly Migratory Species Management Division

NMFS also uses the CFLP to collect HMS landings and effort related data from vessel owners primarily with commercial, limited access shark fishing permits using bottom longline, gillnet, or vertical line (including bandit) gear. A vessel owner with an HMS fishing permit and reporting through the CFLP must record the required logbook information for each day of fishing within 48 hours of completion or before offloading fish from the vessel, whichever is sooner. The completed logbook forms must be mailed in the provided postage paid envelopes and postmarked within 7 days of offloading all HMS. NMFS' HMS Management Division published a proposed rule in September 2024 that would change requirements for fishermen with HMS permits reporting through the CFLP and other methods. The proposed rule would switch to an electronic reporting method and adjust the timing requirement (89 FR 72796, September 6, 2024). As stated in the proposed rule, electronic logbook reporting is a step towards streamlining HMS reporting for commercial, for-hire, and private recreational fisheries consistent with the one stop reporting initiative to expand capabilities for the submission of a single electronic report to satisfy overlapping reporting requirements of vessels holding permits in multiple regional fisheries. As of August 2025, the HMS Management Division has not published a final rule.

Actions Contained in the Commercial Electronic Logbook Amendments

If approved and implemented by NMFS, the recommendations in the Commercial Electronic Logbook Amendments would change the format of required reporting in the CFLP from a paper logbook to an electronic reporting format and make limited changes to what data that fishermen need to report. The deadline to submit an electronic report after a fishing trip would not change from current requirements. The selection process for the “trip expense” and discard portions of the logbook would also remain the same.

The intent of the Commercial Electronic Logbook Amendments is to improve the accuracy and efficiency of logbook data collected from federally permitted commercial fishermen that report to the CFLP. Moving to an electronic platform is expected to increase convenience and ease of reporting for commercial fishermen while increasing the accuracy and timeliness of commercial data for use by fishery managers. The collected data would be available sooner to fishery managers once submitted through the electronic platform compared to the same data collected on the paper forms. Paper logbooks are sometimes difficult to interpret by analysts, and the analysts often need to contact the submitter for clarification or correction with several days or weeks elapsed from when fishing occurred. This need would be reduced if the logbook were electronically submitted, because logbook validations could prevent some errors, such as a trip start time being recorded as after a trip end time occurs. In addition, fishermen would not need to mail the paper reports, which is less convenient than using the electronic format. Therefore, NMFS expects the proposed change from paper to electronic reporting described in the Commercial Electronic Logbook Amendments to increase data accuracy and decrease the time delay of when those data are available for use by fishery managers.

The Commercial Electronic Logbook Amendments would require that commercial fishermen submit fishing reports on electronic software approved by NMFS. A vessel owner or operator would submit a completed fishing report electronically no later than 7 days after the end of each fishing trip, which is the same timeframe required currently for submission of fishing reports on paper forms. If no fishing occurred during a calendar month, an electronic no-fishing report must be submitted electronically no later than 7 days after the end of that month. If a vessel owner or operator is aware of a period when fishing would not occur, a no-fishing report may be submitted anytime in advance of that period. If fishing subsequently occurs during time covered by a no-fishing report submitted previously, the vessel owner or operator would complete and submit the applicable fishing report.

Currently, NMFS shares commercial logbook data with the Atlantic Coastal Cooperative Statistics Program (ACCSP) as part of a partnership to combine fisheries-dependent information on the Atlantic coast from both Federal and state partners. Any software application that NMFS would approve also needs to meet the requirements to be submitted to the database managed by ACCSP. Because ACCSP combines data from multiple partners to create a comprehensive and consistent dataset, the compatibility of these data across systems is crucial. NMFS expects the continued use of ACCSP's system for partnering on various data collection systems. NMFS is also working towards a comprehensive reporting system for Federal fisheries across regions and may include other partners and data collection systems in the future. The proposed electronic CFLP would remain consistent with the goals and objectives for data collection set by the SEFSC and ACCSP.

To integrate the information currently collected by the paper logbook forms to the existing ACCSP database, slight modifications to the CFLP data fields would be required. For example, fields such as trip start time, trip end date, and trip end time would be added to prevent overlapping trip submissions. The addition of trip type would be added to so that the logbook software would show the data fields for that trip type. For example, if a fisherman selects a commercial trip, required data fields for a commercial trip would be shown. Primary area fished would be added to be compatible with the ACCSP database. Some data fields would be removed, including state trip ticket number and payment of catch. The signature field in the paper form would be replaced with a perjury statement that the submitter (an owner or operator) acknowledges and affirms the accurate and truthful data entry before submission can occur. Other data fields that may be modified include “hours/days,” which would default to hours to be consistent with the ACCSP database. In addition, the “sales disposition” data field would default to “sold to dealer” to be consistent with the ACCSP database. The retained catch (landings) would require an entry into the catch disposition category, which would default to “general: food.” Those selected by NMFS to submit information on discards would be required to declare the disposition of both retained catch and discards.

The currently available software through ACCSP would be free to fishermen. NMFS is also testing a downloadable application for a phone and a computer, which is separate from the ACCSP software. Once software providers are approved by NMFS' SEFSC, they would be listed on the NMFS website https://www.fisheries.noaa.gov/southeast/resources-fishing/southeast-electronic-reporting-technologies. After NMFS finalizes the technical specifications and during implementation of the electronic CFLP, other vendors may create additional software applications. These vendors may charge a fee for use or provide an application at no cost. Fishermen would need internet access, such as via Wi-Fi or cellular service to download an application, and submit the electronic reports. However, fishermen would be able to input data in the application regardless if they are connected to the internet. If NMFS implements a final rule for commercial electronic reporting as described in this proposed rule, paper logbooks would no longer be accepted. Further, a vessel owner would continue to be required to comply with the electronic reporting requirements to renew or transfer a Federal commercial permit.

Prior to the implementation date of a final rule for the Commercial Electronic Logbook Amendments, NMFS would contact each permit holder by mail and email. Outreach sessions would be scheduled prior to the implementation of the program and NMFS staff would be available to answer questions on how to get started with electronic reporting. If permit holders have specific questions related to the software, they should be directed to the applicable vendor. Vendors are required to have a help desk to assist with user questions. Prior to the implementation of the program, outreach materials would be available from NMFS to provide guidance about how the reporting requirements affect permit holders and how to use the software.

Proposed Rule for the Commercial Electronic Logbook Amendments

NMFS has drafted a proposed rule that would implement the Commercial Electronic Logbook Amendments. In accordance with the Magnuson-Stevens Act, NMFS is evaluating the proposed rule to determine whether it is consistent with the FMPs, the Magnuson-Stevens Act, and other applicable law. If that determination is affirmative, NMFS will publish the proposed rule in the Federal Register for public review and comment.

Consideration of Public Comments

The Gulf and South Atlantic Councils have submitted the Commercial Electronic Logbook Amendments for Secretarial review, and consideration of approval and implementation. Comments on the Commercial Electronic Logbook Amendments must be received no later than January 20, 2026. NMFS will consider all comments received during the respective comment periods, whether specifically directed to the Commercial Electronic Logbook Amendments or the proposed rule in the decision to approve, disapprove, or partially approve the Commercial Electronic Logbook Amendments. Comments received after the comment periods will not be considered by NMFS in this decision. NMFS will address all comments received during the respective comment periods for the Commercial Electronic Logbook Amendments or the associated proposed rule in a final rule.

(Authority: 16 U.S.C. 1801 et seq.)

Dated: November 18, 2025.
Kelly Denit,
Director, Office of Sustainable Fisheries, National Marine Fisheries Service.

[FR Doc. 2025-20491 Filed 11-19-25; 8:45 am]

BILLING CODE 3510-22-P